DEPARTMENT OF THE INTERIOR

Bureau of Land Management

[LLOR-936000-L14300000-ET0000; HAG12-0229; OROR-46473]

Notice of Proposed Withdrawal Extension and Opportunity for Public Meeting; OR

AGENCY: Bureau of Land Management, Interior.

ACTION: Notice.

SUMMARY: The Assistant Secretary of the Interior for Policy, Management and Budget proposes to extend the duration of Public Land Order (PLO) No. 6963 for an additional 20-year term. PLO No. 6963 withdrew 257.60 acres of public land from settlement, sale, location, or entry under the general land laws, including the United States mining laws, but not from leasing under the mineral leasing laws, to protect the natural values of the Florence Sand Dunes (FSD). This notice also amends the land description and acreage in PLO No. 6963 and gives an opportunity to comment on the proposed action and to request a public meeting.

DATES: Comments must be received on or before January 29, 2013.

ADDRESSES: Comments and meeting requests should be sent to the Oregon/Washington State Director, Bureau of Land Management (BLM), P.O. Box 2965, Portland, OR 97208-2965.

FOR FURTHER INFORMATION CONTACT: Michael L. Barnes, BLM Oregon/Washington State Office, 503-808-6155, or Tracy Maahs, BLM Eugene District Office, 541-683-6376. Persons who use a telecommunications device for the deaf (TDD) may call the Federal Information Relay Service (FIRS) at 1-800-877-8339 to reach either of the contacts stated above. The FIRS is available 24 hours a day, 7 days a week, to leave a message or question with either of the above individuals. You will receive a reply during normal business hours.

SUPPLEMENTARY INFORMATION: The withdrawal created by PLO No. 6963 (58 FR 19212 (1993)), will expire on April 12, 2013, unless it is extended. The BLM filed a petition\application to extend PLO No. 6963 for an additional 20-year term. The PLO withdrew 257.60 acres of public land from settlement, sale, location, or entry under the general land laws, including the United States mining laws (30 U.S.C. Chapter 2), but not from leasing under the mineral leasing laws, to protect the existing natural values of the FSD. This notice amends the legal land description and acreage in PLO No. 6963 as a result of a 1995 dependent resurvey and subdivision of sec. 3, T. 18 S., R. 12 W., Willamette Meridian. The land withdrawn by PLO No. 6963 is now described as follows:

Willamette Meridian

T. 18 S., R. 12 W.,

Sec. 3, lots 5 to 10, inclusive;

Sec. 15, SE¼NE¼.

The areas described aggregate 250.66 acres in Lane County.

The purpose of the proposed withdrawal extension is to continue the protection of the existing natural values of the FSD.

The use of a right-of-way, interagency or cooperative agreement, Special Recreation Management Area, or Area of Critical Environmental Concern designation does not provide adequate protection. There are no suitable alternative sites available.

No water rights would be needed to fulfill the purpose of the requested withdrawal extension.

For a period until January 29, 2013, all persons who wish to submit comments, suggestions, or objections in connection with the proposed withdrawal extension may present their views in writing to the BLM State Director at the address indicated above.

Comments, including names and street addresses of respondents, will be available for public review at the address indicated above during regular business hours.

Individual respondents may request confidentiality. Before including your address, phone number, email address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that a public meeting can be held in connection with the proposed withdrawal extension. All interested parties who desire a public meeting for the purpose of being heard on the proposed withdrawal extension must submit a written request to the BLM State Director at the address indicated above by January 29, 2013. Upon determination by the authorized officer that a public meeting will be held, a notice of the time and place will be published in the Federal Register and a local newspaper at least 30 days before the scheduled date of the meeting.

The withdrawal extension application will be processed in accordance with the regulations set forth in 43 CFR 2310.4.

Fred O'Ferrall,
Chief, Branch of Land, Mineral, and Energy Resources.

[FR Doc. 2012-26700 Filed 10-30-12; 8:45 am]

BILLING CODE 4310-33-P